DEPARTMENT OF TRANSPORTATION

Federal Aviation Administration

14 CFR Part 39

[Docket No. FAA-2019-0484; Product Identifier 2019-NM-065-AD]

RIN 2120-AA64

Airworthiness Directives; Airbus SAS Airplanes

AGENCY: Federal Aviation Administration (FAA), DOT.

ACTION: Supplemental notice of proposed rulemaking (SNPRM); reopening of comment period.

SUMMARY: The FAA is revising an earlier proposal for all Airbus SAS Model A330-200, A330-200 Freighter, A330-300, A340-200, A340-300, A340-500, and A340-600 series airplanes. This action revises the notice of proposed rulemaking (NPRM) by including additional affected free fall actuators (FFAs) and reducing certain compliance times. The FAA is proposing this airworthiness directive (AD) to address the unsafe condition on these products. Since these actions would impose an additional burden over those in the NPRM, the FAA is reopening the comment period to allow the public the chance to comment on these changes.

DATES: The comment period for the NPRM published in the Federal Register on June 26, 2019 (84 FR 30055), is reopened.

The FAA must receive comments on this proposed AD by March 6, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For the material identified in this proposed AD that will be incorporated by reference (IBR), contact the European Union Aviation Safety Agency (EASA), Konrad-Adenauer-Ufer 3, 50668 Cologne, Germany; phone: +49 221 89990 1000; email: ADs@easa.europa.eu; internet: www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0484.

Examining the AD Docket

You may examine the AD docket on the internet at https://www.regulations.gov by searching for and locating Docket No. FAA-2019-0484; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Vladimir Ulyanov, Aerospace Engineer, International Section, Transport Standards Branch, FAA, 2200 South 216th St., Des Moines, WA 98198; phone and fax: 206-231-3229.

SUPPLEMENTARY INFORMATION:

Comments Invited

The FAA invites you to send any written relevant data, views, or arguments about this proposal. Send your comments to an address listed under the ADDRESSES section. Include “Docket No. FAA-2019-0484; Product Identifier 2019-NM-065-AD” at the beginning of your comments. The FAA specifically invites comments on the overall regulatory, economic, environmental, and energy aspects of this NPRM. The FAA will consider all comments received by the closing date and may amend this NPRM based on those comments.

The FAA will post all comments received, without change, to https://www.regulations.gov, including any personal information you provide. The FAA will also post a report summarizing each substantive verbal contact received about this NPRM.

Discussion

The FAA issued an NPRM to amend 14 CFR part 39 by adding an AD that would apply to all Airbus SAS Model A330-200, A330-200 Freighter, A330-300, A340-200, A340-300, A340-500, and A340-600 series airplanes. The NPRM published in the Federal Register on June 26, 2019 (84 FR 30055). The NPRM was prompted by a report that an airplane failed to extend its nose landing gear (NLG) using the free fall method, due to loss of the green hydraulic system. The NPRM proposed to require repetitive tests of affected FFAs, and replacement of any affected FFA that fails a test with a serviceable FFA; as specified in EASA AD 2019-0063, dated March 26, 2019 (“EASA AD 2019-0063”).

Actions Since the NPRM Was Issued

Since the NPRM was issued, the FAA has determined that it is necessary to include additional affected FFAs and reduce certain compliance times.

The EASA, which is the Technical Agent for the Member States of the European Union, has issued EASA AD 2019-0164, dated July 11, 2019 (“EASA AD 2019-0164”) (referred to after this as the Mandatory Continuing Airworthiness Information, or “the MCAI”), to correct an unsafe condition for all Airbus SAS Model A330-200, A330-200 Freighter, A330-300, A340-200, A340-300, A340-500, and A340-600 series airplanes. Airbus SAS Model A340-542 and A340-643 airplanes are not certified by the FAA and are not included on the U.S. type certificate data sheet; this proposed AD therefore does not include those airplanes in the applicability. EASA AD 2019-0164 supersedes EASA AD 2019-0063. You may examine the MCAI in the AD docket on the internet at https://www.regulations.gov by searching for and locating Docket No. FAA-2019-0484.

This proposed AD was prompted by a report that an airplane failed to extend its NLG using the free fall method, due to the loss of the green hydraulic system. The FAA is proposing this AD to address detached magnets on both electrical motors of the FFAs, which could prevent landing gear extension by the free fall method, possibly resulting in loss of control of the airplane after landing. See the MCAI for additional background information.

Related IBR Material Under 1 CFR Part 51

EASA AD 2019-0164 describes procedures for repetitive tests of affected FFAs and replacement of any affected FFA that fails a test with a serviceable FFA. EASA AD 2019-0164 also describes procedures for an optional terminating action (replacement of all affected FFAs), which would terminate the repetitive tests. This material is reasonably available because the interested parties have access to it through their normal course of business or by the means identified in the ADDRESSES section.

Comments

The FAA gave the public the opportunity to participate in developing this proposed AD. The FAA has considered the comments received on the proposal; the following is the FAA's response to each comment.

Support for the NPRM

Patrick Imperatrice expressed his support for the NPRM.

Request for Single Compliance Time

Delta Air Lines (DAL) requested that the FAA change the compliance times specified in EASA AD 2019-0164 to a single compliance time: “Within 90 days after the effective date of this AD.” DAL stated that there is no need for multiple compliance times regardless of the affected part and affected airplane. DAL pointed out that based on the date of manufacture, the Airbus SAS Model A330-200 and -300 fleet has been operating for approximately 14 years. DAL stated that the FFA is a secondary system, only utilized in the event of a green hydraulic failure, and that based on a single occurrence of the unsafe condition in-flight, the risk of a failure is relatively low. DAL also pointed out that changing the compliance times to a single compliance time would reduce risk for non-compliance due to test planning if an FFA from a different affected group is installed at different positions on the same airplane.

The FAA disagrees with the request to change the compliance times to a single compliance time. The proposed changes would affect the entire fleet of Model A330 airplanes, and multiple operators. The compliance times specified in EASA AD 2019-0164 affect both FFAs that are not tested, and FFAs that are previously tested. Removing the compliance times for previously tested parts could put airplanes using those FFAs out of compliance. The FAA has determined that DAL has not provided enough justification to substantiate that the risk of a failure to the fleet should result in a change to the compliance times. The FAA has not changed this SNPRM in this regard.

Request for Different Compliance Intervals

DAL requested that the FAA change the repetitive testing intervals from flight hours to flight cycles. DAL specified that the affected FFAs are operated only during takeoff and landing. DAL provided no further justification for the requested change.

The FAA disagrees with the request to change the repetitive testing intervals from flight hours to flight cycles. The failure rate was originally calculated using flight hours, and the FAA has determined that it is appropriate to calculate the compliance time for repetitive testing intervals in flight hours, as specified in EASA AD 2019-0164. Converting the compliance times from flight hours to flight cycles in this SNPRM would necessitate obtaining additional information from EASA and Airbus to support these calculations, and could delay issuance of the final rule indefinitely. The FAA has not changed this SNPRM in this regard.

Request To Revise the Terminating Action Language

DAL requested that the FAA revise the terminating action language to require replacement of an affected FFA, with a serviceable FFA that is not an affected FFA. DAL stated that revising the terminating action language would better support the Part(s) Installation paragraph specified in EASA AD 2019-0164 that prohibits installation of affected FFAs on any airplane from the effective date of EASA AD 2019-0164. DAL pointed out that the “Solution” section of Airbus SAS Retrofit Information Letter (RIL) LR32M18008932, states that “Any FFA PN [part number] AR02404 that fails the operational test will be upgraded into PN TY3409-01A according to Triumph SB [service bulletin] AR02404-32-L3409-1.” DAL mentioned that Triumph SB AR02404-32-L3409-1 specifies reinforcement of affected FFAs with support rings to avoid magnet detachment.

The FAA disagrees with the request to revise the terminating action language to require replacement of an affected FFA with a serviceable FFA that is not an affected FFA. EASA AD 2019-0164 conclusively specifies what constitutes a “serviceable part,” as well as an “affected part” in the “Definitions” section. The FAA has determined that the Terminating Action and Part(s) Installation paragraphs of EASA AD 2019-0164 do not conflict and do not require revision. The FAA has not changed this SNPRM in this regard.

Request for Credit for Actions Accomplished Prior to the AD Effective Date

DAL requested that the FAA provide credit for accomplishing the actions specified in paragraph (g) of the proposed AD prior to the AD effective date. DAL provided no further justification for the request.

The FAA acknowledges the commenter's request and agrees to clarify. Paragraph (f) of this proposed AD states to accomplish the required actions within the compliance times specified, “unless already done.” Therefore, if operators have accomplished the actions required for compliance with this AD before the effective date of this AD, no further action is necessary. The FAA has not revised this SNPRM in this regard.

Request for Deviations to Triumph Reference Material (Referenced in Airbus Alert Operators Transmission (AOT) A32L012-18 (“AOT A32L012-18”))

DAL requested that the FAA include deviations to Triumph Service Bulletin AR02404-32-L3409-1, dated February 21, 2011 (referenced in AOT A32L012-18). DAL cited numerous typographical errors in various sections of Triumph Service Bulletin AR02404-32-L3409-1, dated February 21, 2011. DAL mentioned that a comment with the same request was acknowledged in EASA Proposed AD (PAD) No. 19-092, dated May 23, 2019 (closed for comments on June 20, 2019) (“EASA PAD No. 19-092”), but also pointed out that no change was made to EASA AD 2019-0164 once it was published.

The FAA disagrees with the request to include deviations to Triumph Service Bulletin AR02404-32-L3409-1, dated February 21, 2011. Note 1 of AOT A32L012-18 refers to Triumph Service Bulletin AR02404-32-L3409-1, dated February 21, 2011, to provide clarification that after the embodiment of Triumph Service Bulletin AR02404-32-L3409-1, dated February 21, 2011, the actuator part number is changed and is no longer affected. The proposed changes do not specifically facilitate or prevent the accomplishment of the required actions specified in EASA AD 2019-0164. EASA has communicated the requested corrections to Airbus, which can contact Triumph accordingly. The FAA has not revised this SNPRM in this regard.

Request To Require Only Paragraph 4.2.2, Inspection Requirements, of AOT A32L012-18

DAL requested that the FAA revise the NPRM to require only paragraph 4.2.2, Inspection Requirements, of AOT A32L012-18. DAL mentioned that a comment with the same request was acknowledged in EASA PAD No. 19-092, but also pointed out that no change was made to EASA AD 2019-0164 once it was published. DAL provided no further justification.

The FAA disagrees with the request to require only paragraph 4.2.2, Inspection Requirements, of AOT A32L012-18. The FAA is requiring accomplishment of EASA AD 2019-0164, which requires affected operators to resolve the unsafe condition by accomplishing the actions specified in AOT A32L012-18. As EASA noted in EASA PAD No. 19-092, it did not consider it necessary to point to paragraph 4.2.2, as it is obvious the actions are to be accomplished using the instructions in paragraph 4.2.2. The FAA has not revised this SNPRM in this regard.

Request To Revise the Aircraft Maintenance Manual (AMM) Based on AOT A32L012-18

DAL requested that various sections of the AMM be revised to include information specified in AOT A32L012-18. DAL mentioned that a comment with the same request was acknowledged in EASA PAD No. 19-092, but also pointed out that no revision to the AMM has been published. DAL provided no further justification.

The FAA acknowledges the request to revise various sections of the AMM based on AOT A32L012-18. However, the FAA does not control the revision schedule of the Airbus AMM. Additionally, the FAA is requiring accomplishment of EASA AD 2019-0164, which requires affected operators to resolve the unsafe condition by accomplishing the actions specified in AOT A32L012-18. The AMM is not required by this SNPRM or EASA AD 2019-0164 to accomplish the required actions. The FAA has not revised this SNPRM in this regard.

Request To Specify Requirements or Special Instructions for a Special Tool

DAL requested the FAA require inspection of special tool Control Unit-Leg Free Fall Actuator, part number 97F32001001000 prior to use; or that operators be notified that during a mock-up for EASA AD 2019-0063 (superseded by EASA AD 2019-0164), DAL observed that the labels A and B on special tool Control Unit-Leg Free Fall Actuator, part number 97F32001001000, were reversed. DAL mentioned that a comment with the same request was acknowledged in EASA PAD No. 19-092, but also pointed out that no information, instructions, or requirements have been communicated regarding special tool Control Unit-Leg Free Fall Actuator, part number 97F32001001000. DAL provided no further justification.

The FAA disagrees with the request to include additional requirements or special instructions for special tool Control Unit-Leg Free Fall Actuator, part number 97F32001001000. However, the FAA agrees that clarification is necessary. The proposed changes do not specifically facilitate or prevent the accomplishment of the required actions specified in EASA AD 2019-0164. EASA has communicated the requested corrections to Airbus and any further communication regarding these issues should come from Airbus. The FAA has not revised this SNPRM in this regard.

Request To Include an Alternate Cotter Pin Part Number

DAL requested that the FAA specify an alternate cotter pin, part number MS24665-151, instead of part number MS24665-153, as specified in the Airbus A330 Illustrated Parts Catalog (IPC). DAL mentioned that a comment with the same request was acknowledged in EASA PAD No. 19-092, but also pointed out that no information, instructions, or requirements have been communicated regarding an alternate cotter pin as specified in the Airbus A330 IPC. DAL provided no further justification.

The FAA disagrees with the request to include specification for an alternate cotter pin, part number MS24665-151, instead of part number MS24665-153. The proposed changes do not specifically facilitate or prevent the accomplishment of the required actions specified in EASA AD 2019-0164. EASA has communicated the requested corrections to Airbus and any further communication regarding these issues should come from Airbus. The FAA has not revised this SNPRM in this regard.

Request To Review and Clarify Requirements of FFA Operational Check

DAL requested that the FAA review and clarify the requirements of the FFA operational check. DAL pointed out that, in the NPRM (84 FR 32661, July 9, 2019) for AD 2019-21-02, Amendment 39-19768 (84 FR 57313, October 25, 2019) (“AD 2019-21-02”), the FAA proposed to revise the existing maintenance program to incorporate Airbus A330 Airworthiness Limitations Section (ALS) Part 3, Certification Maintenance Requirements (CMR), Revision 06, dated October 15, 2018. AD 2019-21-02 specifies that accomplishing the actions terminates the requirements of AD 2016-26-05, Amendment 39-18763 (82 FR 1170, January 5, 2017) (“AD 2016-26-05”). DAL also mentioned that it has received an alternative method of compliance (AMOC) for AD 2016-26-05: FAA AMOC AIR-676-19-016, dated November 2, 2018, which approves incorporation of Maintenance Review Board Report (MRBR) Task 32.30.00/08 into the DAL maintenance program at Airbus A330 Airworthiness Limitations Section (ALS) Part 3, Certification Maintenance Requirements (CMR), Revision 06, dated October 15, 2018. DAL specified that the 3,400 FH interval requirement specified in MRBR Task 32.30.00/08 conflicts with the requirements of Airbus SAS Retrofit Information Letter (RIL) LR32M18008932.

The FAA agrees that clarification is necessary. FAA AD 2019-21-02, which corresponds with EASA AD 2019-0049, dated March 11, 2019, mandates revising the existing maintenance program to include Airbus A330 Airworthiness Limitations Section (ALS) Part 3, Certification Maintenance Requirements (CMR), Revision 06, dated October 15, 2018. Airbus A330 Airworthiness Limitations Section (ALS) Part 3, Certification Maintenance Requirements (CMR), Revision 06, dated October 15, 2018, contains task 323000-00001-1-C “OPERATIONAL CHECK OF LANDING GEAR FREE-FALL SYSTEM” to be performed every 3,400 FH. Task 323000-00001-1-C, “OPERATIONAL CHECK OF LANDING GEAR FREE-FALL SYSTEM,” is applicable to all Airbus SAS Model A330 airplanes fitted with FFA regardless of their part numbers. EASA AD 2019-0164 only affects airplanes fitted with landing gear FFA having certain part numbers specified in appendixes 3, 4, and 5 of AOT A32L012-18.

For the affected FFA, tables 1 and 2 of EASA AD 2019-0164 establish more restrictive compliance times, matching the compliance times specified in table 1 of Airbus SAS RIL LR32M18008932. These more restrictive compliance times have been established to prevent the failure of landing gear under freefall fitted with an affected FFA from the population of those manufactured in 1992 through 2005, inclusive. EASA AD 2019-0164 includes credit for compliance with Airbus A330 Airworthiness Limitations Section (ALS) Part 3, Certification Maintenance Requirements (CMR), Revision 06, dated October 15, 2018, task 323000-00001-1-C, “OPERATIONAL CHECK OF LANDING GEAR FREE-FALL SYSTEM.” Alignment of the compliance times for all affected FFAs installed on a specific airplane can be accomplished at the next inspection, using the required intervals. The FAA has not revised this SNPRM in this regard.

Request To Require EASA AD 2019-0164 as the Appropriate Service Information

DAL requested that the FAA require EASA AD 2019-0164 as the appropriate service information for the actions proposed in the NPRM. DAL pointed out that EASA AD 2019-0164 expands the affected population of FFAs and that the FAA NPRM does not adequately address the unsafe condition without this new service information.

The FAA agrees with the request to require EASA AD 2019-0164 as the appropriate service information for the actions proposed by this SNPRM. EASA AD 2019-0164 supersedes EASA AD 2019-0063, and includes additional affected FFAs and reduces compliance times. The FAA has revised this SNPRM accordingly.

FAA's Determination and Requirements of This SNPRM

This product has been approved by the aviation authority of another country, and is approved for operation in the United States. Pursuant to a bilateral agreement with the State of Design Authority, the FAA has been notified of the unsafe condition described in the MCAI referenced above. The FAA is proposing this AD because the agency evaluated all the relevant information and determined the unsafe condition described previously is likely to exist or develop in other products of the same type design.

Certain changes described above expand the scope of the SNPRM. As a result, the FAA has determined that it is necessary to reopen the comment period to provide additional opportunity for the public to comment on this SNPRM.

Proposed AD Requirements

This proposed AD would require accomplishing the actions specified in EASA AD 2019-0164 described previously, as incorporated by reference, except for any differences identified as exceptions in the regulatory text of this proposed AD and except as discussed under “Differences Between this Proposed AD and the MCAI.”

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2019-0164 will be incorporated by reference in the FAA final rule. This proposed AD would, therefore, require compliance with EASA AD 2019-0164 in its entirety, through that incorporation, except for any differences identified as exceptions in the regulatory text of this proposed AD. Using common terms that are the same as the heading of a particular section in the EASA AD does not mean that operators need comply only with that section. For example, where the AD requirement refers to “all required actions and compliance times,” compliance with this proposed AD requirement is not limited to the section titled “Required Action(s) and Compliance Time(s)” in EASA AD 2019-0164. Service information specified in EASA AD 2019-0164 that is required for compliance with EASA AD 2019-0164 will be available on the internet at https://www.regulations.gov by searching for and locating Docket No. FAA-2019-0484 after the FAA final rule is published.

Interim Action

The FAA considers this proposed AD interim action. If final action is later identified, the FAA might consider further rulemaking then.

Costs of Compliance

The FAA estimates that this proposed AD affects 107 airplanes of U.S. registry. The FAA estimates the following costs to comply with this proposed AD:

Estimated Costs for Required Actions
Labor cost | Parts cost | Cost per product | Cost on U.S. operators
2 work-hours × $85 per hour = $170 | $0 | $170 | $18,190

The FAA estimates the following costs to do any necessary on-condition actions that would be required based on the results of any required actions. The FAA has no way of determining the number of aircraft that might need these on-condition actions:

Estimated Costs of On-Condition Actions
Labor cost | Parts cost | Cost per product
2 work-hours × $85 per hour = $170 | $0 * | $170
* The FAA has received no definitive data that would enable us to provide parts cost estimates for the on-condition replacements specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus SAS: Docket No. FAA-2019-0484; Product Identifier 2019-NM-065-AD.

(a) Comments Due Date

The FAA must receive comments by March 6, 2020.

(b) Affected ADs

None.

(c) Applicability

This AD applies to all Airbus SAS airplanes identified in paragraphs (c)(1) through (7) of this AD, certificated in any category.

(1) Model A330-201, -202, -203, -223, and -243 airplanes.

(2) Model A330-223F and -243F airplanes.

(3) Model A330-301, -302, -303, -321, -322, -323, -341, -342, and -343 airplanes.

(4) Model A340-211, -212, -213 airplanes.

(5) Model A340-311, -312, and -313 airplanes.

(6) Model A340-541 airplanes.

(7) Model A340-642 airplanes.

(d) Subject

Air Transport Association (ATA) of America Code 32, Landing gear.

(e) Reason

This AD was prompted by a report that an airplane failed to extend its nose landing gear (NLG) using the free fall method, due to the loss of the green hydraulic system. The FAA is issuing this AD to address detached magnets on both electrical motors of the free fall actuators (FFAs), which could prevent landing gear extension by the free fall method, possibly resulting in loss of control of the airplane after landing.

(f) Compliance

Comply with this AD within the compliance times specified, unless already done.

(g) Requirements

Except as specified in paragraph (h) of this AD: Comply with all required actions and compliance times specified in, and in accordance with, European Union Aviation Safety Agency (EASA) AD 2019-0164, dated July 11, 2019 (“EASA AD 2019-0164”).

(h) Exceptions to EASA AD 2019-0164

(1) Where EASA AD 2019-0164 refers to its effective date or April 9, 2019 (the effective date of EASA AD 2019-0063, dated March 26, 2019), this AD requires using the effective date of this AD.

(2) The “Remarks” section of EASA AD 2019-0164 does not apply to this AD.

(3) Where paragraph (3) of EASA AD 2019-0164 specifies credit for certain tasks “provided the continuity test specified in AMM task A330-32-33-00-710-809, or AMM task A340-32-33-00-710-806, as applicable, is accomplished concurrently,” this AD provides credit “provided the continuity test is accomplished concurrently in accordance with the instructions of an FAA-approved maintenance or inspection program.”

(i) No Reporting Requirement

Although the service information referenced in EASA AD 2019-0164 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0164 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA AD 2019-0164, contact the EASA, Konrad-Adenauer-Ufer 3, 50668 Cologne, Germany; phone: +49 221 89990 1000; email: ADs@easa.europa.eu; internet: www.easa.europa.eu. You may find this EASA AD on the EASA website at https://ad.easa.europa.eu. You may view this EASA AD at the FAA, Transport Standards Branch, 2200 South 216th St., Des Moines, WA. For information on the availability of this material at the FAA, call 206-231-3195. EASA AD 2019-0164 may be found in the AD docket on the internet at https://www.regulations.gov by searching for and locating Docket No. FAA-2019-0484.

(2) For more information about this AD, contact Vladimir Ulyanov, Aerospace Engineer, International Section, Transport Standards Branch, FAA, 2200 South 216th St., Des Moines, WA 98198; phone and fax: 206-231-3229.

Issued on January 3, 2020.
John Piccola, Jr.,
Acting Director, System Oversight Division, Aircraft Certification Service.

[FR Doc. 2020-00449 Filed 1-17-20; 8:45 am]

BILLING CODE 4910-13-P